DEPARTMENT OF THE INTERIOR

Bureau of Land Management

[LLWO320000 L19900000 EX0000]

Renewal of Approved Information Collection, OMB Control Number 1004-0194

AGENCY: Bureau of Land Management, Interior.

ACTION: 30-day notice and request for comments.

SUMMARY: The Bureau of Land Management (BLM) has submitted an information collection request to the Office of Management and Budget (OMB) for a 3-year renewal of OMB Control Number 1004-0194 under the Paperwork Reduction Act. This control number covers paperwork requirements in 43 CFR subpart 3809.

DATES: The OMB is required to respond to this information collection request within 60 days but may respond after 30 days. Therefore, written comments should be received on or before May 27, 2010.

ADDRESSES: You may submit comments directly to the Desk Officer for the Department of the Interior (OMB #1004-0194), Office of Management and Budget, Office of Information and Regulatory Affairs, fax 202-395-5806, or by electronic mail at oira_docket@omb.eop.gov. Please mail a copy of your comments to: Bureau Information Collection Clearance Officer (WO-630), Department of the Interior, 1849 C Street, NW., Mail Stop 401 LS, Washington, DC 20240. You may also send a copy of your comments by electronic mail to: jean_sonneman@blm.gov.

FOR FURTHER INFORMATION CONTACT: You may contact Adam Merrill, Bureau of Land Management, Division of Solid Minerals, at (202) 912-7044 (Commercial or FTS). Persons who use a telecommunication device for the deaf (TDD) may call the Federal Information Relay Service (FIRS) on 1-800-877-8339, to contact Mr. Merrill.

SUPPLEMENTARY INFORMATION: Title: Surface Management Activities under the General Mining Law (43 CFR subpart 3809).

Forms:

• Form 3809-1, Surface Management Surety Bond;

• Form 3809-2, Surface Management Personal Bond;

• Form 3809-4, Bond Rider Extending Coverage of Bond to Assume Liabilities for Operations Conducted by Parties Other Than the Principal;

• Form 3809-4a, Surface Management Personal Bond Rider; and

• From 3809-5, Notification of Change of Operator and Assumption of Past Liability.

OMB Control Number: 1004-0194.

Abstract: This collection of information enables the BLM to determine whether operators and mining claimants are meeting their responsibility to prevent unnecessary or undue degradation while conducting exploration and mining activities on public lands under the General Mining Law (30 U.S.C. 22—54.). It also enables the BLM to obtain financial guarantees for the reclamation of public lands. This collection of information is found at 43 CFR subpart 3809 and in the forms listed above.

Frequency: On occasion.

Description of Respondents: Operators and mining claimants.

60-Day Notice: As required in 5 CFR 1320.8(d), we published a 60-day notice in the Federal Register on January 8, 2010 (75 FR 1071), soliciting comments from the public and other interested parties. The comment period closed on March 9, 2010. We received one comment. The comment was a general invective about the Federal government, the Department of the Interior, and the BLM. It did not address, and was not germane to, this information collection. Therefore, we have no response to the comment.

Type of Review: Revision of a currently approved information collection.

Affected Public: Operators and mining claimants.

Obligation to Respond: Required to obtain or retain benefits.

Annual Responses: 1,495 responses.

Completion Time per Response: Varies from 1 hour to 4,960 hours.

Annual Burden Hours: 183,808.

Annual Non-hour Burden Cost: $4,780 for notarizing Forms 3809-2 and 3809-4a.

The BLM requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments to the addresses listed under ADDRESSES. Please refer to OMB control number 1004-0194 in your correspondence. Before including your address, phone number, e-mail address, or other personal identifying information in your comment, you should be aware that your entire comment—including your personal identifying information—may be made publicly available at any time. While you can ask us in your comment to withhold your personal identifying information from public review, we cannot guarantee that we will be able to do so.

Jean Sonneman,
Acting Information Collection Clearance Officer.

[FR Doc. 2010-9705 Filed 4-26-10; 8:45 am]

BILLING CODE 4310-84-P